DEPARTMENT OF JUSTICE

Antitrust Division

Notice Pursuant to the National Cooperative Research and Production Act of 1993—Ductile Iron Pipe Research Association

Notice is hereby given that, on June 25, 2001, pursuant to section 6(a) of the National Cooperative Research and Production Act of 1993, 15 U.S.C. 4301 et seq. (“the Act”), Ductile Iron Pipe Research Association has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identifies of the parties are Ductile Iron Pipe Research Association, Birmingham, AL; American Cast Iron Pipe Company, Birmingham, AL; Atlantic States Cast Iron Pipe Company, Phillipsburg, NJ; Canada Pipe Company, Hamilton, Ontario, CANADA; Clow Water Systems Company, Coshocton, OH; Griffin Pipe Products Company, Downers Grove, IL; McWane Cast Iron Pipe Company, Birmingham, AL; Pacific States Cast Iron Pipe Company, Provo, UT; and United States Pipe and Foundry Company, Inc., Birmingham, AL. The nature and objectives of the venture are (1) to research, develop, and promote innovations in the manufacturing, testing, standards development, and quality control of ductile iron pipe, fittings, and associated products; (2) to identify best practices in the ductile iron pipe and fittings manufacturing industry; and (3) to promote the exchange of technology among members of the joint venture. Each of these purposes, in turn, supports the overall objective of the joint venture, which shall be to produce products of enhanced quality at lower costs, in order to promote the future competitiveness of domestic ductile iron products.

Constance K. Robinson,
Director of Operations, Antitrust Division.

[FR Doc. 01-18898 Filed 7-27-01; 8:45 am]

BILLING CODE 4410-11-M